FEDERAL ELECTION COMMISSION

Sunshine Act Meeting

FEDERAL REGISTER CITATION NOTICE OF PREVIOUS ANNOUNCEMENT: 87 FR 781.

PREVIOUSLY ANNOUNCED TIME AND DATE OF THE MEETING: Tuesday, January 11, 2022 at 10:00 a.m. and its continuation at the conclusion of the open meeting on January 13, 2022.

CHANGES IN THE MEETING: This meeting also discussed: Matters relating to internal personnel decisions, or internal rules and practices.

* * * * *

CONTACT FOR MORE INFORMATION: Judith Ingram, Press Officer, Telephone: (202) 694-1220.

Authority: Government in the Sunshine Act, 5 U.S.C. 552b.

Laura E. Sinram,
Acting Secretary and Clerk of the Commission.

[FR Doc. 2022-01111 Filed 1-18-22; 11:15 am]

BILLING CODE 6715-01-P